ENVIRONMENTAL PROTECTION AGENCY

[OEI-2005-0003, OEI-2005-0004, FRL-7923-1]

Agency Information Collection Activities: Proposed Collection; Comment Request; Background Checks for Contractor Employees (Renewal), EPA ICR Number 2159.02, OMB Control Number 2030-0043; Proposed Collection; Comment Request; Drug Testing for Contract Employees (Renewal), EPA ICR Number 2183.02, OMB Control Number 2030-0044

AGENCY: Environmental Protection Agency (EPA).

ACTION: Notice.

SUMMARY: In compliance with the Paperwork Reduction Act (44 U.S.C. 3501 et seq.), this document announces that EPA is planning to submit two continuing Information Collection Requests (ICRs) to the Office of Management and Budget (OMB). This is a request to renew two existing approved collections. These ICRs are scheduled to expire on 09/30/05. Before submitting the ICRs to OMB for review and approval, EPA is soliciting comments on specific aspects of the proposed information collection as described below.

DATES: Comments must be submitted on or before August 9, 2005.

ADDRESSES: Submit your comments, referencing docket ID number OEI-2005-0003 for Background Checks for Contractor Employees (Renewal), EPA ICR Number 2159.02, OMB Control Number 2030-0043, and OEI-2005-0004 for Drug Testing for Contract Employees (Renewal), EPA ICR Number 2183.02, OMB Control Number 2030-0044, to EPA online using EDOCKET (our preferred method), by e-mail to oei.docket@epa.gov, or by mail to: EPA Docket Center (28221T), Environmental Protection Agency, 1200 Pennsylvania Ave., NW., Washington, DC 20460.

FOR FURTHER INFORMATION CONTACT: Paul Schaffer, U.S. EPA, Office of Acquisition Management, Mail Code (3802R), Environmental Protection Agency, 1200 Pennsylvania Ave., NW., Washington, DC 20460; telephone number: (202) 564-4366; fax number: (202) 565-2475; e-mail address: schaffer.paul@epa.gov.

SUPPLEMENTARY INFORMATION: EPA has established a public docket for these ICR's under Docket ID number OEI-2005-0003 for Background Checks for Contractor Employees (Renewal), EPA ICR Number 2159.02, OMB Control Number 2030-0043, and OEI-2005-0004 for Drug Testing for Contract Employees (Renewal), EPA ICR Number 2183.02, OMB Control Number 2030-0044, which is available for public viewing in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the OEI Docket is (202) 566-1752. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to these ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected entities: Entities potentially affected by this action are contractors performing work at sensitive sites or on sensitive projects, and not covered under the provisions of Homeland Security Presidential Directive -12. Specifically, all contractors involved with Emergency Response, Superfund, Information Systems, Facility Services, and Research Support that have significant security concerns, as determined by the Contracting Officer on a case-by-case basis, will be required to provide qualified personnel that meet the background check and drug testing requirements developed by EPA.

Titles: Background Checks for Contractor Employees (Renewal); Drug Testing for Contractor Employees (Renewal).

Abstract: Background checks cover citizenship or valid visa, criminal convictions, weapons offenses, felony convictions, parties prohibited from receiving federal contracts. Drug tests are for the presence of marijuana, cocaine, opiates, amphetamines and phencyclidine (PCP). The Contractor shall maintain records of all background checks and drug tests. An agency may not conduct or sponsor, and a person is not required to respond to, a collection of information unless it displays a currently valid OMB control number. The OMB control numbers for EPA's regulations in 40 CFR are listed in 40 CFR part 9.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The number of contractor employees expected to submit the requested information for background checks is 3,000 for the life of this ICR (3 years) or 1,000 occurrences per year. The number of annual occurrences, 1,000, multiplied by the respondent burden effort of 1 hour to collect information, equals a total of 1,000 hours per year. The total annual respondent cost for performing background checks collection requests is $179,000. This is calculated by multiplying the number of annual occurrences, 1,000, by the respondent cost of one collection, $179.

The number of contractor employees expected to submit the requested information for drug testing is 450 occurrences per year. The number of annual occurrences, 450, multiplied by the respondent burden effort of 1 hour to collect information, equals a total of 450 hours per year. The total annual respondent cost for this collection request is $65,250. This is calculated by multiplying the number of occurrences, 450, by the cost of one collection, $145.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 6, 2005.
John C. Gherardini,
Acting Director, Office of Acquisition Management.

[FR Doc. 05-11545 Filed 6-9-05; 8:45 am]

BILLING CODE 6560-50-P